ENVIRONMENTAL PROTECTION AGENCY

40 CFR Part 82

Protection of Stratospheric Ozone

CFR Correction

In Title 40 of the Code of Federal Regulations, Parts 81 to 85, revised as of July 1, 2002, on page 346, part 82 is corrected by removing the second § 82.7.

[FR Doc. 03-55502 Filed 1-28-03; 8:45 am]

BILLING CODE 1505-01-D